DEPARTMENT OF THE TREASURY

Internal Revenue Service

Internal Revenue Service Advisory Council; Meeting

AGENCY: Internal Revenue Service, Department of Treasury.

ACTION: Notice of meeting.

SUMMARY: The Internal Revenue Service Advisory Council will hold a public meeting.

DATES: The meeting will be held Wednesday, Nov. 16, 2022.

ADDRESSES: The meeting will be held in person.

FOR FURTHER INFORMATION CONTACT: Ms. Stephanie Burch, Office of National Public Liaison, at 202-317-4219 or send an email to PublicLiaison@irs.gov.

SUPPLEMENTARY INFORMATION: Notice is hereby given pursuant to section 10(a) (2) of the Federal Advisory Committee Act, 5 U.S.C. App. (1988), that a public meeting of the Internal Revenue Service Advisory Council (IRSAC) will be held on Wednesday, Nov. 16, 2022, from 9:00 a.m. to 1:00 p.m. EST.

The meeting will be held in person at 1111 Constitution Ave. NW, Washington, DC. To register, members of the public may contact Ms. Stephanie Burch at 202-317-4219 or send an email to PublicLiaison@irs.gov. Attendees are encouraged to arrive at the IRS visitor center at 1111 Constitution Ave. NW at least 30 minutes before the meeting begins.

Issues to be discussed may include, but are not limited to: IRS Business and IT Modernization; Reduction in Electronic Filing Threshold for Information Reporting Filers; Alignment of Electronic Signature Requirements on Withholding Certificates; Section 1446(f): Withholding on Transfers of Interests in Publicly Traded Partnerships; Enabling Business Online Accounts and Electronic Communications and Transactions; Wage Reporting for Payments to Incarcerated Individuals; Accelerate Issuance of IRS Form 6166, Certification of U.S. Residency; Retaining Different Corporate Addresses for Different Types of Tax; Procedures for Partners that Receive Late Schedule K-1 Filings; Improvements to the Bridge Phase of the CAP; Examination Customer Coordination and Innovation Office; Improving the Taxpayer Experience in Docketed Cases within the Jurisdiction of the Independent Office of Appeals that Arise from Compliance Actions by the IRS' Correspondence Examination to Automated Underreporter Functions as well as Feedback Regarding Examination's efforts to Improve Taxpayer Experience with Respect to those Functions; Series 8038 Form Redesign and Updates; Recommendations for Employee Plan Examination Compliance Approaches; Recommendations for Changes to Group Trust Rules; Recommendations to TEOS Improvements; Recommendations for Effective State Engagement to Promote Employment Tax Compliance; Business Master File (BMF) Transcript Delivery Service (TDS); Artificial Intelligence BOTS for Customer Service; Tax Pro Account Online Features; Form SS-4, EIN Application, Daily Limit per Responsible Party. Last-minute agenda changes may preclude advance notice.

Time permitting, at the end of the meeting, interested persons may make oral statements germane to the Council's work. Persons wishing to make oral statements should contact Ms. Stephanie Burch at PublicLiaison@irs.gov and include the written text or outline of comments they propose to make orally. Such comments will be limited to five minutes in length. In addition, any interested person may file a written statement for consideration by the IRSAC by sending it to PublicLiaison@irs.gov.

Dated: October 25, 2022.
John A. Lipold,
Designated Federal Officer, Internal Revenue Service Advisory Council.

[FR Doc. 2022-23555 Filed 10-27-22; 8:45 am]

BILLING CODE 4830-01-P